DEPARTMENT OF THE INTERIOR

Fish and Wildlife Service

Proposed Low Effect Habitat Conservation Plan for Northern Indiana Public Service Company and the Indiana-American Water Company, Inc.

AGENCY: Fish and Wildlife Service, Interior.

ACTION: Notice of availability.

SUMMARY: Northern Indiana Public Service Company and the Indiana-American Water Company, Inc. (Applicants) have applied to the U.S. Fish and Wildlife Service (Service) for a joint incidental take permit for one covered species pursuant to section 10(a)(1)(B) of the Endangered Species Act of 1973, as amended (Act). The application addresses the potential for “take” of the endangered Karner blue butterfly (Lycaeides melissa samuelis) from management activities associated with electric power transmission line, natural gas pipeline, and potable water pipeline right-of-ways in northern Lake and Porter Counties, Indiana. A conservation program to mitigate for the project activities would be implemented as described in the proposed Low Effect Habitat Conservation Plan (proposed Plan), which would be implemented by the Applicants. We are requesting comments on the permit application and on the preliminary determination that the proposed Plan qualifies as a “Low-Effect” Habitat Conservation Plan, eligible for a categorical exclusion under the National Environmental Policy Act (NEPA) of 1969, as amended.

DATES: Written data or comments should be submitted to the Regional Director, U.S. Fish and Wildlife Service, Ecological Services, 1 Federal Drive, Fort Snelling, Minnesota 55111-4056, and must be received on or before August 18, 2005.

FOR FURTHER INFORMATION CONTACT: Mr. Peter Fasbender, (612) 713-5343.

SUPPLEMENTARY INFORMATION:

Availability of Documents

Individuals requesting copies of the applications and proposed Plan should contact the Service by telephone at (612) 713-5343 or by letter to the U.S. Fish and Wildlife Office (see DATES). Copies of the proposed Plan also are available for public inspection during regular business hours at the U.S. Fish and Wildlife Office located at 1000 West Oakhill Road, Porter, Indiana or at the Service's Regional Web site at: http://www.fws.gov/midwest/NEPA.

Background

Section 9 of the Act and its implementing Federal regulations prohibit the take of animal species listed as endangered or threatened. The definition of take under the Act includes the following activities: to harass, harm, pursue, hunt, shoot, wound, kill, trap, capture, or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for endangered species are found in the Code of Federal Regulations at 50 CFR 17.22.

The Applicant is seeking a permit for take of the Karner blue butterfly during the 25 years of the permit. The project involves the operation and maintenance of 4 utility corridors encompassing approximately 86 acres, of which 4.2 acres is currently considered habitat for the Karner blue butterfly. Normal maintenance activities that would occur include temporary disturbances resulting from transmission line maintenance, replacing conductors, gas line construction or replacement, water main maintenance and construction, and vegetation management to control tree growth. All activities will take place within the existing utility right-of-ways and easement. Incidental take will occur within the right-of-ways as a result of temporary disturbance to Karner blue butterfly habitat by truck and heavy equipment traffic, soil disturbances from excavation activities, mowing and hand cutting of brush and woody stems, and application of herbicides. The project site is not known to contain any other rare, threatened, or endangered species or habitat. Critical habitat does not occur for any listed species on the project site.

The Applicant proposes to mitigate the effects to the Karner blue butterfly associated with the covered activities by fully implementing the Plan. The purpose of the proposed Plan's conservation program is to promote the biological conservation of the Karner blue butterfly. The Applicant proposes to mitigate the take by creating an additional 9 acres of habitat by planting wild lupine and other nectar plants.

The Proposed Action consists of the issuance of an incidental take permit and implementation of the proposed Plan, which includes measures to mitigate impacts of the project on the Karner blue butterfly. Two alternatives to the taking of the listed species under the Proposed Action are considered in the proposed Plan. Under the No Action Alternative, no permit would be issued, and no construction would occur. Under the No Change from the historic maintenance plan, no incidental take of the Karner blue butterfly would be authorized, but a reduction in the habitat quality would result since there would be no provision for habitat improvements. By eliminating habitat enhancements of the corridors, the quality and extent of the existing Karner blue butterfly habitat would diminish through normal ecological succession.

The Service has made a preliminary determination that approval of the proposed Plan qualifies as a categorical exclusion under NEPA, as provided by the Department of the Interior Manual (516 DM 6, Appendix 1, Section 1.4C(2)) and as a “low-effect” plan as defined by the Habitat Conservation Planning Handbook (November 1996). Determination of Low-effect Habitat Conservation Plans is based on the following three criteria: (1) Implementation of the proposed Plan would result in minor or negligible effects on federally listed, proposed, and candidate species and their habitats; (2) implementation of the proposed Plan would result in minor or negligible effects on other environmental values or resources; and (3) impacts of the proposed Plan, considered together with the impacts of other past, present, and reasonably foreseeable similarly situated projects, would not result in cumulative effects to environmental values or resources which would be considered significant.

Based upon this preliminary determination, we do not intend to prepare further NEPA documentation. We will consider public comments in making the final determination on whether to prepare such additional documentation.

This notice is provided pursuant to section 10(c) of the Act. We will evaluate the permit application, the proposed Plan, and comments submitted thereon to determine whether the application meets the requirements of section 10(a) of the Act. If the requirements are met, we will issue permits to the Applicants for the incidental take of the Karner blue butterfly from right-of-way management in Lake and Porter Counties, Indiana.

Dated: June 10, 2005.
Robert Krska,
Acting Assistant Regional Director, Ecological Services, Region 3, Fort Snelling, Minnesota.

[FR Doc. 05-14160 Filed 7-18-05; 8:45 am]

BILLING CODE 4310-55-P